DEPARTMENT OF JUSTICE

[Docket No. ODAG173]

Granting of Relief; Federal Firearms Privileges

AGENCY: Department of Justice.

ACTION: Notice of granting of restoration of Federal firearms privileges.

SUMMARY: The Attorney General has granted relief from disabilities imposed by Federal laws with respect to certain individuals regarding the acquisition, receipt, transfer, shipment, transportation, or possession of firearms or ammunition.

SUPPLEMENTARY INFORMATION: The Attorney General is responsible for enforcing the provisions of the Gun Control Act of 1968 (GCA), 18 U.S.C. Chapter 44. Section 922(g) of title 18 of the United States Code prohibits certain persons from shipping or transporting “in interstate or foreign commerce, or possess[ing] in or affecting commerce, any firearm or ammunition; or [from] receiv[ing] any firearm or ammunition which has been shipped or transported in interstate or foreign commerce.” Section 925(c) of title 18 provides that a person who is prohibited under section 922(g) may make an application to the Attorney General to remove the firearms disabilities if it is established to the Attorney General's satisfaction that the circumstances regarding the disability, and the applicant's record and reputation, are such that the applicant will not be likely to act in a manner dangerous to public safety and that the granting of the relief would not be contrary to the public interest. Section 925(c) also provides that whenever the Attorney General grants relief to any person pursuant to this section, she “shall promptly publish in the Federal Register notice of such action, together with the reasons therefor.”

The Attorney General has reviewed all the relevant facts for each individual listed below, including the materials that each individual submitted seeking either a pardon or relief from Federal firearms disabilities, and it is established to her satisfaction that each individual will not be likely to act in a manner dangerous to public safety and that the granting of the relief to each individual would not be contrary to the public interest. Accordingly, on February 6, 2026, the Attorney General granted relief from Federal firearms disabilities to these individuals pursuant to section 925(c):

Samuel Aaron Baacke

James P. Bailey

William Henry Bashlor

Larry Bolles

Anthony Pashay Brown

David Quittman Burkett

Giovanna Campo

John Sudie Cecil, IV

Charles Cooper

John Kevin Foster

Jacob “Jake” Michael Hoffman

Edward Frank Hucks

James Klos

Jon Steven Lewis

George Manosis

John Mastrangelo

Starlin O. Perry

Fred Rietveld

Nicholas R. Sabatine, III

Gilbert Santana

Charles Edgar VanHorn

Debra Ann Wilson

Dated: February 18, 2026.
Todd Blanche,
Deputy Attorney General.

[FR Doc. 2026-03458 Filed 2-20-26; 8:45 am]

BILLING CODE 4410-29-P